DEPARTMENT OF THE INTERIOR

National Park Service

Notice of Intent to Repatriate Cultural Items: Logan Museum of Anthropology, Beloit College, Beloit, WI

AGENCY: National Park Service, Interior.

ACTION: Notice.

Notice is here given in accordance with the Native American Graves Protection and Repatriation Act (NAGPRA), 25 U.S.C. 3005, of the intent to repatriate cultural items in the possession of the Logan Museum of Anthropology (Logan Museum), Beloit College, Beloit, WI, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1955, the Logan Museum of Anthropology acquired a large collection from the estate of Albert Green Heath. Heath lived in Chicago and had a second home in Harbor Springs, Emmet County, MI, near the Odawa community of Cross Village. Heath was acquainted with many Odawa tribal members and collected many Odawa objects in the early 20th century, including six found with human burials. The six cultural items are one catlinite (red pipestone) pipe bowl (catalogue number 7759), three silver armbands (30678.1, 30678.2, 30678.3), one silver cross pendant (30685.1), and one brass or bronze crucifix pendant (30688).

In 1956, the pipe bowl (7759) was sold by the Logan Museum to Herbert S. Zim and Sonia Bleeker Zim. In 1971, the pipe bowl was donated back to the Logan Museum by Sonia Bleeker Zim. The pipe bowl is L-shaped, 5 cm high by 6.9 cm long, and is made of red pipestone presumed to be catlinite. The bowl is flared, and the stem end features two grooves. Both the bowl and the stem end are heat-discolored on the interior and exterior, and the bowl interior contains charred residue. Heath's collection records indicate this object was a “grave find” from Emmet County and that its tribal affiliation is Ottawa (Odawa).

The silver armbands (30678.1, 30678.2, and 30678.3) are three of four objects Heath described as “early English trader's bracelets.” The fourth in this set was sold to the New York State Museum in 1956. Heath's records indicate these armbands are “grave finds” from Emmet County and are Ottawa (Odawa). Two of the armbands (30678.1 and 30678.2) are 4.7 cm wide, have fluted edges, and were cut from one original piece, as shown by partial coat-of-arms engravings that form a single complete engraving when the two armbands are placed side by side. The third armband (30678.3) is 2.7 cm wide and has fluted edges. It also has a stamped touchmark, “JS,” which indicates manufacture in the late 18th century by Jonas Schindler or his widow, of Quebec, Canada.

The silver cross pendant (30685.1) is also a “grave find” from Emmet County, and is identified as Ottawa (Odawa) by Heath. The single-bar cross measures 6.8 cm long by 4.2 cm wide. Each side contains eleven small circular stamps, but there is no identifying touchmark. This general type of cross was commonly traded in the Great Lakes area in the 18th century. Heath's records indicate he purchased the cross from Louise Assineway. Census records show that two Odawa individuals named Louise (or Louisa) Assineway (or Assinaway) lived in the Cross Village area in the early 20th century.

The crucifix pendant (30688) is probably made of brass, but possibly is bronze. It measures 7.0 cm long by 4.2 cm wide and features the Christ figure riveted onto a cross with fleur-de-lis style ends, a suspension loop, and small “INRI” plaque. Heath's records indicate this crucifix is a “grave find,” and it is also identified as Ottawa (Odawa). The record also indicated that the crucifix is from Cross Village, MI, and was purchased from Cynthia Shomin. Census records show that Cynthia Shomin was an Odawa tribal member who lived in the Cross Village area in the early 20th century.

Geographic, historic, and archeological evidence indicates that Odawa Indians occupied the area of Cross Village and Emmet County, MI, in the late 18th and early 19th centuries. Metal and catlinite objects such as those listed above are commonly noted funerary objects in Odawa burials of that period. The human remains from the specific burial sites are not in the possession of the Logan Museum. The Little Traverse Bay Bands of Odawa Indians, Michigan still resides in that area, and consultation with tribal representatives supports the identification of the cultural items as Odawa funerary objects.

Officials of the Logan Museum of Anthropology have determined that, pursuant to 25 U.S.C. 3001 (3)(B), the six cultural items described above are reasonably believed to have been placed with or near individual human remains at the time of death or later as part of the death rite or ceremony and are believed, by a preponderance of the evidence, to have been removed from a specific burial site of a Native American individual. Officials of the Logan Museum of Anthropology also have determined that, pursuant to 25 U.S.C. 3001 (2), there is a relationship of shared group identity that can be reasonably traced between the unassociated funerary objects and the Little Traverse Bay Bands of Odawa Indians, Michigan.

Representatives of any other Indian tribe that believes itself to be culturally affiliated with the unassociated funerary objects should contact William Green, Director, Logan Museum of Anthropology, Beloit College, 700 College St., Beloit, WI 53511, telephone (608) 363-2119, before September 29, 2008. Repatriation of the unassociated funerary objects to the Little Traverse Bay Bands of Odawa Indians, Michigan may proceed after that date if no additional claimants come forward.

The Logan Museum of Anthropology is responsible for notifying the Grand Traverse Band of Ottawa and Chippewa Indians, Michigan; Little River Band of Ottawa Indians, Michigan; Little Traverse Bay Bands of Odawa Indians, Michigan; Ottawa Tribe of Oklahoma; Burt Lake Band of Ottawa & Chippewa Indians, a non-federally recognized Indian group; and Grand River Bands of Ottawa Indians, a non-federally recognized Indian group, that this notice has been published.

Dated: August 14, 2008.
Sherry Hutt,
Manager, National NAGPRA Program.

[FR Doc. E8-20098 Filed 8-28-08; 8:45 am]

BILLING CODE 4312-50-S